DEPARTMENT OF ENERGY

Federal Energy Regulatory Commission

[RP14-638-000, CP14-125-000, CP14-126-000, et al.]

Notice Establishing Comment Due Dates on Settlement

Atmos Energy Corporation v. American Midstream (Midla) LLC | Docket No. RP14-638-000
American Midstream (Midla) LLC | Docket Nos. CP14-125-000, CP14-126-000, RP14-689-000, RP14-689-001, RP14-1049-000, RP14-1049-001, RP14-1049-002, (not consolidated)

On December 11, 2014, American Midstream (Midla) LLC and the other Supporting Parties ¹ filed a Stipulation and Agreement (Settlement) in the above referenced proceedings. Pursuant to Rule 602(f) of the Commission's Rules of Practice,² notice is hereby given that initial comments on the Settlement are due no later than December 31, 2014 and reply comments are due no later than January 12, 2015.

¹ In addition to Midla, the Supporting Parties are Atmos Energy Corporation; BASF Corporation; Enbridge Marketing (US) L.P.; Entergy Services, Inc., Entergy Gulf States Louisiana, L.L.C., Entergy Louisiana, LLC and Entergy Arkansas, Inc.; EVP Properties, L.P.; Louisiana Public Service Commission; Louisiana Municipal Gas Authority; Mississippi Public Service Commission; and Tunica Pipeline, LLC.

² 18 CFR 385.602(f) (2014).

Dated: December 16, 2014.
Kimberly D. Bose,
Secretary.

[FR Doc. 2014-29948 Filed 12-22-14; 8:45 am]

BILLING CODE 6717-01-P